DEPARTMENT OF LABOR

Employment and Training Administration

[TA-W-59,552]

Admiral Foundry, Formerly The Admiral Machine Company, Wadsworth, OH; Notice of Negative Determination on Reconsideration

On August 9, 2006, the Department issued an Affirmative Determination Regarding Application for Reconsideration for the workers and former workers of the subject firm. The Department's Notice of determination was published in the Federal Register on August 16, 2006 (71 FR 47249).

The initial investigation revealed that, during the relevant period, the subject firm neither shifted production abroad nor imported cast aluminum tire molds from a foreign country. The investigation also revealed that the “contributed importantly” group eligibility requirement of Section 222 of the Trade Act of 1974, as amended, was not met. The “contributed importantly” test is generally demonstrated through a survey of customers of the subject workers' firm. The survey revealed that none of the respondents increased their imports of cast aluminum tire molds during the relevant period.

In the request for reconsideration, the International Union, United Automobile, Aerospace & Agricultural Implement Workers of America, Region 2-B (the Union) stated that the subject firm produced both molds and casts used on the tire industry and inferred that the scope of the initial investigation was too limited because it only addressed cast aluminum tire molds.

During the reconsideration investigation, the Department sought clarification from the subject firm regarding the article(s) produced at the Wadsworth, Ohio facility during the relevant period. The company official stated that the Wadsworth, Ohio facility produced aluminum tread castings (a component part for tire molds) and did not produce complete tire molds.

On reconsideration, the Department also investigated whether the subject workers are eligible to apply for Trade Adjustment Assistance (TAA) as workers of a secondarily-affected firm (supplied component parts for articles produced by a firm with a currently TAA-certified worker group).

For certification on the basis of the workers' firm being a secondary upstream supplier, the subject firm must have customers with a worker group that is currently TAA-certified, and the subject firm must produce a component part of the product that was the basis for the customers' certification. In addition, either the TAA-certified customer must represent at least twenty percent of the subject firm's business or a loss of business with the TAA-certified customer contributed importantly to the subject workers' separation at the subject firm.

During the reconsideration investigation, the Department determined that none of the subject firm's declining customers are currently certified for TAA based on increased imports of tire molds. Thus the subject firm workers are not eligible under secondary impact.

In order for the Department to issue a certification of eligibility to apply for Alternative Trade Adjustment Assistance (ATAA), the subject worker group must be certified eligible to apply for TAA. Since the workers are denied eligibility to apply for TAA, the workers cannot be certified eligible for ATAA.

Conclusion

After review of the application and investigative findings, I conclude that there has been no error or misinterpretation of the law or of the facts which would justify reconsideration of the Department of Labor's prior decision. Accordingly, the application is denied.

Signed at Washington, DC, this 28th day of August 2006.
Elliott S. Kushner,
Certifying Officer, Division of Trade Adjustment Assistance.

[FR Doc. E6-14730 Filed 9-5-06; 8:45 am]

BILLING CODE 4510-30-P